DEPARTMENT OF AGRICULTURE

National Agricultural Statistics Service

Notice of Appointment to the Advisory Committee on Agriculture Statistics

AGENCY: National Agricultural Statistics Service, USDA.

ACTION: Notification of appointment to the Advisory Committee on Agriculture Statistics.

SUMMARY: The Office of the Secretary of Agriculture, in accordance with the Federal Advisory Committee Act, 5 U.S.C. App. 2, announces members appointed to the Advisory Committee on Agriculture Statistics. The appointment for the twenty-five member committee, which has representation across seven categories which covers a broad range of agricultural disciplines and interests, was signed on February 5, 2002. Appointed members by their associated category are: Consumer and Information Organizations—Robert W. Spear, Nobleboro, ME; Ross Ronald Racine, Billings, MT; James Dennis Rieck, Winfield, IL. Educational Organizations—Ling-Jung (Kelvin) Koong, Corvallis, OR; Bobby Ray Phills, Tallahassee, FL; Gumecindo Salas, Springfield, VA. Farm Services Organizations—Jacklyn M. Folsom, Cabot, VT; John Irving Gifford, Rock Island, IL; Jack Charles Mitenbuler, Indianapolis, IN; Ranvir Singh, Marysville, CA; Mark Edward Whalon, East Lansing, MI. Government Agencies—Robert Dale Epperson, Fresno, CA. National Farm Organizations—Carol Ann Gregg, Grove City, PA; Mark W. Jenner, Mt. Prospect, IL; Sheila Kay Massey, Animas, NM; Ivan W. Wyatt, Cedar Point, KS. Producer and Marketing Organizations—Mark Dale Lange, Cordova, TN; Andrew William LaVigne, Lakeland, FL; Roger M. Cryan, Fairfax, VA; Ashby Pamplin Ruden, Reston, VA; Lee F. Schrader, West Lafayette, IN; Topper Thorpe, Castle Rock, CO; Hugh Anslum Warren, Greenwood, MS. Professional Organizations—Walter J. Armbruster, Darien, IL; Ronald C. Wimberley, Raleigh, NC.

Comments: The duties of the Committee are solely advisory. The Committee will make recommendations to the Secretary of Agriculture with regards to the agricultural statistics program of the National Agricultural Statistics Service (NASS) and such other matters as it may deem advisable, or which the Secretary of Agriculture, Under Secretary for Research, Education, and Economics, or the Administrator of NASS may request. The Advisory Committee will be meeting on February 19-20, 2002. All meetings are open to the public. Committee members will be reimbursed for official travel expenses only.

FOR FURTHER INFORMATION CONTACT: Additional Information: Questions should be e-mailed to hq_aa@nass.usda.gov, faxed to (202) 720-9013, or telephoned to Rich Allen, Associate Administrator, NASS, at (202) 720-4333. All mailed correspondence should be sent to Rich Allen, Associate Administrator, U.S. Department of Agriculture, National Agricultural Statistics Service, 1400 Independence Avenue SW, Room 4117 South Building, Washington, DC 20250-2000.

Signed at Washington, DC, February 6, 2002.
R. Ronald Bosecker,
Administrator, National Agricultural Statistics Service.

[FR Doc. 02-3800 Filed 2-14-02; 8:45 am]

BILLING CODE 3410-20-P